ENVIRONMENTAL PROTECTION AGENCY

[FRL-9461-3]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1755.09; Regulatory Innovation Pilot Projects (Renewal); was approved on 08/02/2011; OMB Number 2010-0026; expires on 08/31/2014; Approved with change.

EPA ICR Number 2277.03; NESHAP for Area Sources: Electric Arc Furnace Steelmaking Facilities; 40 CFR part 63 subparts A and YYYYY; was approved on 08/03/2011; OMB Number 2060-0608; expires on 08/31/2014; Approved without change.

EPA ICR Number 1679.07; NESHAP for Marine Tank Vessel Loading Operations; 40 CFR part 63 subparts A and Y; was approved on 08/03/2011; OMB Number 2060-0289; expires on 08/31/2014; Approved without change.

EPA ICR Number 1947.05; NESHAP for Solvent Extraction for Vegetable Oil Production; 40 CFR part 63 subparts A and GGGG; was approved on 08/03/2011; OMB Number 2060-0471; expires on 08/31/2014; Approved without change.

EPA ICR Number 2260.04; Confidential Financial Disclosure Form for Special Government Employees Serving on Federal Advisory Committees at the U.S. Environmental Protection Agency (Renewal); 40 CFR 5.2634; was approved on 08/03/2011; OMB Number 2090-0029; expires on 08/31/2014; Approved without change.

EPA ICR Number 1681.07; NESHAP for Epoxy Resin and Non-Nylon Polyamide Production; 40 CFR part 63 subparts A and W; was approved on 08/03/2011; OMB Number 2060-0290; expires on 08/31/2014; Approved without change.

EPA ICR Number 2020.05; Federal Implementation Plans under the Clean Air Act for Indian Reservations in Idaho, Oregon, and Washington; 40 CFR 49.122, 49.124, 49.126, 49.127, 49.130-49.135, 49.138, and 49.139; was approved on 08/03/2011; OMB Number 2060-0558; expires on 08/31/2014; Approved without change.

EPA ICR Number 1676.06; Clean Air Act Tribal Authority (Renewal); 40 CFR parts 35, 49, 50, 81; was approved on 08/04/2011; OMB Number 2060-0306; expires on 08/31/2014; Approved without change.

EPA ICR Number 2268.03; NESHAP for Paint Stripping and Miscellaneous Surface Coating at Area Sources; 40 CFR part 63 subparts A and HHHHHH; was approved on 08/04/2011; OMB Number 2060-0607; expires on 08/31/2014; Approved without change.

EPA ICR Number 2425.01; Use of Surveys in Developing Improved Labelling for Insect Repellent Products; was approved on 08/04/2011; OMB Number 2070-0180; expires on 08/31/2014; Approved with change.

EPA ICR Number 2391.02; Federal Implementation Plans to Reduce Interstate Transport of Fine Particulate Matter and Ozone (Final Rule); 40 CFR parts 51, 75, 96 and 97; was approved on 08/08/2011; OMB Number 2060-0667; expires on 07/31/2014; Approved without change.

EPA ICR Number 1550.09; Conflict of Interest Rule #1 (Renewal); 40 CFR 486; was approved on 08/15/2011; OMB Number 2030-0023; expires on 08/31/2014; Approved with change.

EPA ICR Number 2203.04; Amendments to the Protocol Gas Verification Program, and Minimum Competency Requirements for Air Emission (Final Rule); 40 CFR parts 72 and 75; was approved on 08/17/2011; OMB Number 2060-0626; expires on 08/31/2014; Approved without change.

EPA ICR Number 1684.17; Emissions Certification and Compliance for On-highway Heavy Duty Engines (Final Rule for Clean Alternative Fuel Conversions); 40 CFR part 85 subpart F; and 40 CFR part 1042 subparts C, D, G and H; was approved on 08/17/2011; OMB Number 2060-0287; expires on 08/31/2014; Approved without change.

EPA ICR Number 2405.01; Underground Storage Tank: Information Request Letters, Pacific Southwest Region (Region IX) (New); 40 CFR part 280; was approved on 08/19/2011; OMB Number 2009-0002; expires on 08/31/2014; Approved with change.

EPA ICR Number 1826.05; Transition Program for Equipment Manufacturers (Renewal); 40 CFR 89.102, 1039.625, 1039.626, 1039.630, 1054.625, 1054.626, 1054.635, 1068.250 and 1068.255; was approved on 08/22/2011; OMB Number 2060-0369; expires on 08/31/2014; Approved without change.

EPA ICR Number 1596.08; Significant New Alternatives Policy (SNAP) Program; 40 CFR part 82 subpart G; was approved on 08/30/2011; OMB Number 2060-0226; expires on 08/31/2014; Approved without change.

EPA ICR Number 1230.27; Prevention of Significant Deterioration and Nonattainment New Source Review (Final Rule for Review of New Sources and Modifications in Indian Country); 40 CFR 49.166-49.175, 51.160-51.166, 51 Appendix S, and 52.21-52.24; was approved on 08/31/2011; OMB Number 2060-0003; expires on 04/30/2012; Approved without change.

Withdrawn

EPA ICR Number 2435.01; Generic Clearance for the Collection of Qualitative Feedback on Agency Service Delivery 2 (New); Withdrawn from OMB on 08/19/2011.

Dated: September 1, 2011.
John Moses,
Director, Collections Strategies Division.

[FR Doc. 2011-22989 Filed 9-7-11; 8:45 am]

BILLING CODE 6560-50-P